DEPARTMENT OF HEALTH AND HUMAN SERVICES

Indian Health Service

American Indians Into Psychology Program; Correction

ACTION: Notice; correction.

SUMMARY: The Indian Health Service published a document in the Federal Register on July 12, 2004. The document contained one error.

FOR FURTHER INFORMATION CONTACT: Martha Redhouse, Grants Management Branch, Indian Health Service, Reyes Building, 801 Thompson Avenue, Rockville, MD 20852, Telephone (301) 443-5204. (This is not a toll-free number.)

Correction

In the Federal Register of July 12, 2004, in FR Doc. 04-15715, on page 41820, in the first column, Project Budget, section C should be deleted.

Dated: July 29, 2004.
Phyllis Eddy,
Acting Director, Indian Health Service.

[FR Doc. 04-17777 Filed 8-3-04; 8:45 am]

BILLING CODE 4160-16-M